NUCLEAR REGULATORY COMMISSION

Privacy Act of 1974, as Amended; Revisions to Existing System of Records

AGENCY: Nuclear Regulatory Commission.

ACTION: Proposed revisions to an existing system of records.

SUMMARY: The Nuclear Regulatory Commission (NRC) is issuing public notice of its intent to modify an existing system of records, NRC-20, “Official Travel Records—NRC,” to incorporate the collection and use of travel charge card records, including credit data, to comply with the Consolidated Appropriations Act, 2005 (Pub. L. 108-447).

DATES: The revised system of records will become effective without further notice on January 30, 2006 unless comments received on or before that date cause a contrary decision. If changes are made based on NRC's review of comments received, a new final notice will be published.

ADDRESSES: Comments may be provided to the Chief, Rules and Directives Branch, Division of Administrative Services, Office of Administration, U.S. Nuclear Regulatory Commission, Washington, DC 20555-0001. Written comments should also be transmitted to the Chief of the Rules and Directives Branch, either by means of facsimile transmission to (301) 415-5144, or by e-mail to nrcrep@nrc.gov.

FOR FURTHER INFORMATION CONTACT: Sandra S. Northern, Privacy Program Officer, FOIA/Privacy Act Team, Records and FOIA/Privacy Services Branch, Information and Records Services Division, Office of Information Services, U.S. Nuclear Regulatory Commission, Washington, DC 20555-0001, telephone: 301-415-6879; e-mail: ssn@nrc.gov.

SUPPLEMENTARY INFORMATION: NRC is proposing to add new categories of records in the system to include charge card applications, terms and conditions for use of charge cards, charge card training documentation, monthly reports regarding accounts, credit data, and related documentation; update the authority for the system by adding Section 639 of the Consolidated Appropriations Act, 2005 (Pub.L. 108-447); and incorporate three new routine uses which will allow disclosure of information to the charge card issuing bank, the Department of Interior, National Business Center, to collect severe travel card delinquencies by employee salary offset, and to a consumer reporting agency to obtain credit reports.

A report on the proposed revisions is being sent to OMB, the Committee on Homeland Security and Governmental Affairs of the U.S. Senate, and the Committee on Government Reform of the U.S. House of Representatives as required by the Privacy Act and OMB Circular No. A-130, Appendix I, “Federal Agency Responsibilities for Maintaining Records About Individuals.” NRC's actions are also consistent with OMB Circular A-123, “Management's Responsibility for Internal Control.”

Accordingly, the NRC proposes to amend NRC-20 to read as follows:

NRC-20

SYSTEM NAME:

Official Travel Records—NRC.

SYSTEM LOCATION:

Primary system—Division of Financial Services, Office of the Chief Financial Officer, NRC, Two White Flint North, 11545 Rockville Pike, Rockville, Maryland.

Duplicate system—Duplicate systems may exist, in part, within the organization where the employee actually works for administrative purposes, at the locations listed in Addendum I, Parts 1 and 2, published on September 24, 2004 (69 FR 57579).

CATEGORIES OF INDIVIDUALS COVERED BY THE SYSTEM:

Current and former NRC employees, prospective NRC employees, consultants, and invitational travelers for NRC programs.

CATEGORIES OF RECORDS IN THE SYSTEM:

These records contain requests and authorizations for official travel, travel vouchers, passports, and related documentation; charge card applications, terms and conditions for use of charge cards, charge card training documentation, monthly reports regarding accounts, credit data, and related documentation; all of which may include, but are not limited to, an individual's name, address, social security number, and telephone numbers.

AUTHORITY FOR MAINTENANCE OF THE SYSTEM:

5 U.S.C. 5701; 31 U.S.C. 716, 1104, 1108, 3511, 3512, 3701, 3711, 3717, 3718; Federal Travel Regulations, 41 CFR Parts 301-304; Federal Property Management Regulations, 41 CFR Part 101-41; Executive Order 9397; Section 639 of the Consolidated Appropriations Act, 2005 (Pub. L. 108-447).

ROUTINE USES OF RECORDS MAINTAINED IN THE SYSTEM, INCLUDING CATEGORIES OF USERS AND THE PURPOSES OF SUCH USES:

In addition to the disclosures permitted under subsection (b) of the Privacy Act, the NRC may disclose information contained in this system of records without the consent of the subject individual if the disclosure is compatible with the purpose for which the record was collected under the following routine uses:

a. To the U.S. Treasury for payment;

b. To the Department of State or an embassy for passports or visas;

c. To the General Services Administration and the Office of Management and Budget for required periodic reporting;

d. To the charge card issuing bank;

e. To the Department of Interior, National Business Center, for collecting severe travel card delinquencies by employee salary offset;

f. To a consumer reporting agency to obtain credit reports; and g. For any of the routine uses specified in the Prefatory Statement of General Routine Uses.

DISCLOSURE TO CONSUMER REPORTING AGENCIES:

Disclosure Pursuant to 5 U.S.C. 552a(b)(12):

Disclosures of information to a consumer reporting agency, other than to obtain credit reports, are not considered a routine use of records. Disclosures may be made from this system to “consumer reporting agencies” as defined in the Fair Credit Reporting Act (15 U.S.C. 1681a(f) (1970)) or the Federal Claims Collection Act of 1966, as amended (31 U.S.C. 3701(a)(3) (1996)).

POLICIES AND PRACTICES FOR STORING, RETRIEVING, ACCESSING, RETAINING, AND DISPOSING OF RECORDS IN THE SYSTEM:

STORAGE:

Maintained on paper in file folders, on computer media, and on magnetic tape.

RETRIEVABILITY:

Records are accessed by name, social security number, authorization number, and voucher payment schedule number.

SAFEGUARDS:

Maintained in key locked file cabinets and in conserver files in a passcode locked room. Passports and visas are maintained in a locked file cabinet. For electronic records, an identification number, a password, and assigned access to specific programs are required in order to retrieve information.

RETENTION AND DISPOSAL:

Paper records are retained for 6 years and 3 months after period covered by account, then destroyed through disposal in a Classified and Sensitive Unclassified Waste container in accordance with GRS 9. Electronic records are deleted after the expiration of the retention period authorized for the disposable hard copy file or when no longer needed, whichever is later.

SYSTEM MANAGER(S) AND ADDRESS:

Chief, Payment Policy and Obligations Team, Division of Financial Services, Office of the Chief Financial Officer, U.S. Nuclear Regulatory Commission, Washington, DC 20555-0001.

NOTIFICATION PROCEDURE:

Individuals seeking to determine whether this system of records contains information pertaining to themselves should write to the Freedom of Information Act and Privacy Act (FOIA/PA) Officer, Office of the Chief Information Officer, U.S. Nuclear Regulatory Commission, Washington, DC 20555-0001, and comply with the procedures contained in NRC's Privacy Act regulations, 10 CFR Part 9.

RECORD ACCESS PROCEDURE:

Same as “Notification procedure.”

CONTESTING RECORD PROCEDURE:

Same as “Notification procedure.”

RECORD SOURCE CATEGORIES:

Information is provided by the individual, NRC Agency staff, NRC contractors, the charge card issuing bank, the consumer reporting agency, and outside transportation agents.

EXEMPTIONS CLAIMED FOR THE SYSTEM:

None.

Dated at Rockville, Maryland, this 13th day of December, 2005.
For the Nuclear Regulatory Commission.
Edward T. Baker III,
Director, Office of Information Services.

[FR Doc. E5-7547 Filed 12-19-05; 8:45 am]

BILLING CODE 7590-01-P